DEPARTMENT OF COMMERCE

National Oceanic and Atmospheric Administration

RIN 0648-XG558

Marine Mammals; Issuance of Permits

AGENCY: National Marine Fisheries Service (NMFS), National Oceanic and Atmospheric Administration (NOAA), Commerce.

ACTION: Notice; issuance of permits.

SUMMARY: Notice is hereby given that individuals and institutions have been issued Letters of Confirmation for activities conducted under the General Authorization for Scientific Research on marine mammals. See SUPPLEMENTARY INFORMATION for a list of names and address of recipients.

ADDRESSES: The Letters of Confirmation and related documents are available for review upon written request or by appointment in the following office:

Permits and Conservation Division, Office of Protected Resources, NMFS, 1315 East-West Highway, Room 13705, Silver Spring, MD 20910; phone (301) 427-8401; fax (301) 713-0376.

FOR FURTHER INFORMATION CONTACT: Office of Protected Resources, Permits and Conservation Division, (301) 427-8401.

SUPPLEMENTARY INFORMATION: The requested Letters of Confirmation have been issued under the authority of the Marine Mammal Protection Act of 1972, as amended (16 U.S.C. 1361 et seq.), and the regulations governing the taking and importing of marine mammals (50 CFR part 216). The General Authorization allows for bona fide scientific research that may result only in taking by Level B harassment of marine mammals. The following Letters of Confirmation (LOC) were issued in Fiscal Year 2018 (October 1, 2017—September 30, 2018).

File No. 19826-01: Issued to Tara Moll, Naval Undersea Warfare Center, Division Newport, 1176 Howell Street, Newport, RI, 02841 on November 6, 2017, to conduct ground and vessel surveys, photo-identification, and behavioral observations of gray (Halichoerus grypus), harbor (Phoca vitulina), and harp (Pagophilus groenlandicus) seals in lower Chesapeake Bay, VA and Narragansett Bay, RI. The amended LOC expands the location of research activities in Virginia to include the eastern Atlantic shore of Virginia, rather than just coastlines within the Chesapeake Bay. The LOC expires on January 31, 2021.

File No. 21363: Issued to David Johnston, Ph.D., Assistant Professor of the Practice, Duke University, Marine Science and Conservation, 135 Duke Marine Lab Rd., Beaufort, NC, 28516 on November 9, 2017, to use unmanned aircraft systems to count and photograph 11 pinniped species. Images will be used for photogrammetry, health assessments and habitat descriptions. Research may occur in three different areas: (1) Along the U.S. east coast from Maine to South Carolina; (2) along the U.S. West Coast from Alaska to California; and (3) along the Western Antarctic Peninsula. The objectives are to determine the density and distribution of non-listed pinnipeds using risk adverse and low impact technology. The LOC expires on November 15, 2022.

File No. 19826-02: Issued to Deanna Rees, Naval Undersea Warfare Center, Division Newport, 1176 Howell Street, Newport, RI 02841 on November 28, 2017, to conduct ground and vessel surveys, photo-identification, and behavioral observations of gray, harbor, and harp seals in Virginia and Narragansett Bay, RI. The amended LOC changes the Principal Investigator. The objectives do not change from those authorized under LOC No. 19826-01. The LOC expires on January 31, 2021.

File No. 19613: Issued to Eric Zolman, NOAA National Ocean Service, Hollings Marine Laboratory, 331 Ft. Johnson, Charleston, SC, 29412-9110 on December 21, 2017, to conduct research on bottlenose dolphins (Tursiops truncatus) within coastal waters of the southeastern United States (including the western North Atlantic and northern Gulf of Mexico). Dolphins may be closely approached during vessel surveys for the purposes of photo-identification and behavioral observations to address the following objectives: (1) To estimate abundance of specific inshore bottlenose dolphin stocks; (2) to better define stock boundaries in targeted regions; and (3) to assess the status and health of targeted dolphin populations. The LOC expires on January 1, 2023.

File No. 18101-03: Issued to Jens Currie, Pacific Whale Foundation, 300 Ma'alaea Rd., Suite 211, Wailuku, HI 96793 on March 23, 2018. The amended Letter of Confirmation changes the Principal Investigator and applicant, and extends the LOC by one year for vessel-based research activities on cetaceans within the Maui-4 islands area. The objectives do not change from those authorized under LOC No. 18101-02. The LOC expires on June 21, 2019.

File No. 21932: Issued to Jessica Taylor, Outer Banks Center for Dolphin Research, 310 West Eden St., Kill Devil Hills, NC 27948 on April 4, 2018, to conduct vessel surveys of bottlenose dolphins in the waters of northern North Carolina. Animals may be approached for photo-identification, behavioral observations, and focal follows. The objective of the research is to continue to monitor the presence, identity, ecology, and behavior of bottlenose dolphins in the area. The LOC expires on April 30, 2023.

File No. 21889: Issued to Lesley Thorne, Ph.D., School of Marine and Atmospheric Sciences, Stony Brook University, Stony Brook, NY, 11794 on April 23, 2018, to conduct vessel and unmanned aircraft system (UAS) surveys of 18 cetacean species. Animals may be approached for photo-identification, photogrammetry, behavioral observations, and abundance estimates. Research may occur in the New York Bight up to 120 nm offshore. The objective of the research is to provide detailed species-level information on the abundance, distribution, movements and body condition of cetaceans within the study area to the New York State Department of Environmental Conservation as part of an offshore monitoring program. The LOC expires on July 30, 2023.

File No. 21556: Issued to Stephen McCulloch, Dolphins Plus, 31 Corrine Place, Key Largo, FL 33037 on May 14, 2018 to conduct vessel surveys targeting bottlenose dolphins to include close approach for counts, photo-identification, video recording, and behavioral observations in the Upper Florida Keys, between North Key Largo to Islamorada, FL. The objectives of the research are to provide a contemporary account of common bottlenose dolphins utilizing the Upper Florida Keys. The LOC expires on May 15, 2023.

File No. 22198: Issued to Samuel Wasser, Ph.D., Center for Conservation Biology, University of Washington, Seattle, WA 98195 on May 22, 2018, to conduct boat-based vessel surveys targeting killer whales (Orcinus orca, West Coast Transient stock) within the inland waters of Washington State. Whales may be approached during focal follows for photo-identification, behavioral observations, and fecal sample collection. The objective of the research is to, through analysis of feces, address the physiologic measures of nutritional stress with variation in prey abundance, toxicant levels and boat traffic to endpoint measures such as successful birth outcomes and annual mortality. The LOC expires on July 15, 2019.

File No. 20519-01: Issued to Peggy Stap, Marine Life Studies, P.O. Box 884, Monterey, CA 93942-0884 on June 27, 2018. The amended LOC allows for the use of small UAS to determine the number of marine mammals in a group and for photogrammetry of Transient and Offshore killer whales. The objectives do not change from those authorized under LOC 20519. The LOC expires on December 31, 2021.

In compliance with the National Environmental Policy Act of 1969 (42 U.S.C. 4321 et seq.), a final determination has been made that the activities are categorically excluded from the requirement to prepare an environmental assessment or environmental impact statement.

Dated: October 24, 2018.
Julia Harrison,
Chief, Permits and Conservation Division, Office of Protected Resources, National Marine Fisheries Service.

[FR Doc. 2018-23653 Filed 10-29-18; 8:45 am]

BILLING CODE 3510-22-P